ENVIRONMENTAL PROTECTION AGENCY

[EPA-HQ-OW-2003-0064; FRL-8471-5]

Agency Information Collection Activities; Submission to OMB for Review and Approval; Comment Request; Questionnaire for Nominees for the Annual National Clean Water Act Recognition Awards Program, EPA ICR 1287.09, OMB Control Number 2040-0101

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 22, 2007.

ADDRESSES: Submit your comments, referencing Docket ID No. EPA-HQ-OW-2003-0064, to (1) EPA online using www.regulations.gov (our preferred method), by e-mail to ow-docket@epa.gov, or by mail to: Water Docket, Environmental Protection Agency, Mail Code: 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Gajindar Singh, Municipal Support Division, Office of Wastewater Management, OWM Mail Code: 4204M, Environmental Protection Agency, 1200 Pennsylvania Ave., NW., Washington, DC 20460; telephone number: (202) 564-0634; fax number: (202) 501-2396; e-mail address: singh.gajindar@epa.gov.

SUPPLEMENTARY INFORMATION: EPA has submitted the following ICR to OMB for review and approval according to the procedures prescribed in 5 CFR 1320.12. On July 3, 2007 (72 FR 36449), EPA sought comments on this ICR pursuant to 5 CFR 1320.8(d). EPA received one comment during the comment period, which is addressed in the ICR. Any additional comments on this ICR should be submitted to EPA and OMB within 30 days of this notice.

EPA has established a public docket for this ICR under Docket ID No. EPA-HQ-OW-2003-0064, which is available for online viewing at http://www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: Questionnaire for Nominees for the Annual National Clean Water Act Recognition Awards Program.

ICR Numbers: EPA ICR No. 1287.09, OMB Control No. 2040-0101.

ICR Status: This ICR is currently scheduled to expire on September 30, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This ICR requests continuing approval to collect data from EPA's National Clean Water Act Recognition Awards nominees in order to provide a positive incentive for compliance with the Clean Water Act. The awards are for the following program categories: Operations and Maintenance (O&M) Excellence, Biosolids (Biosolids) Management Excellence, Combined Sewer Overflow Control (CSO) Program Excellence and Storm Water (SW) Management Excellence.

The questionnaire covered by this ICR provides the mechanism for the applicant to demonstrate outstanding and innovative wastewater management practices. A framework to implement the awards recognition program is at 40 CFR part 105.

The information collection will be used by the respective awards program in the Office of Water, Office of Wastewater Management to evaluate and determine which pollution abatement achievements should be recognized. Based on the collection, national panels will evaluate the nominee's efforts and recommend finalists. The National Clean Water Act Recognition Awards are presented annually at an EPA ceremony.

Submission of information on behalf of the respondents is voluntary. No confidential information is requested.

Burden Statement: The annual public reporting and recordkeeping burden for this collection of information is estimated to average 7 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Public wastewater treatment plants, municipalities, States and manufacturing sites.

Estimated Number of Respondents: 195 (145 applicants respondents and 50 states).

Frequency of Response: Annually.

Estimated Total Annual Hour Burden: 2,030 hours.

Estimated Total Annual Cost: $85,738 includes $0 annualized capital or O&M costs.

Changes in the Estimates: There is no change in the total estimated respondent burden compared with that identified in the ICR currently approved by OMB.

Dated: September 13, 2007.
Sara Hisel-McCoy,
Acting Director, Collection Strategies Division.

[FR Doc. E7-18664 Filed 9-20-07; 8:45 am]

BILLING CODE 6560-50-P